DEPARTMENT OF COMMERCE

National Telecommunications and Information Administration

[Docket Number: 0907141137-0154-09]

RIN 0660-ZA28

Broadband Technology Opportunities Program

AGENCY: National Telecommunications and Information Administration, U.S. Department of Commerce.

ACTION: Notice of Funds Availability; Extension of Application Closing Deadline for Comprehensive Community Infrastructure (CCI) Projects.

SUMMARY: NTIA announces that the new application closing deadline for the electronic submission of CCI projects under the Broadband Technology Opportunities Program (BTOP) is extended until 10 p.m. Eastern Daylight Time (EDT) on March 26, 2010.

DATES: All applications for funding CCI projects must be submitted electronically by 10 p.m. EDT on March 26, 2010. There is no change to the filing deadline for applicants seeking a waiver of the electronic filing requirement. For CCI applicants wishing to apply in another format (e.g., paper), NTIA must receive the application and waiver request by 5 p.m. EDT on March 26, 2010.

ADDRESSES: The CCI application package for electronic submission is available at http://www.broadbandusa.gov. See supplementary information for more details.

FOR FURTHER INFORMATION CONTACT: For general inquiries regarding BTOP, contact Anthony Wilhelm, Director, BTOP, Office of Telecommunications and Information Applications, National Telecommunications and Information Administration, U.S. Department of Commerce, 1401 Constitution Avenue, NW, HCHB, Room 4887, Washington, DC, 20230; Help Desk email: BroadbandUSA@usda.gov, Help Desk telephone: 1-877-508-8364.

SUPPLEMENTARY INFORMATION: On January 22, 2010, NTIA published a Notice of Funds Availability and Solicitation of Applications (Second NOFA) in the Federal Register announcing general policy and application procedures for the second round of BTOP funding. (75 FR 3792, Jan. 22, 2010). In the Second NOFA, NTIA required all applicants to submit their applications electronically through an online application system at http://www.broadbandusa.gov. (75 FR at 3805). NTIA established an application window for BTOP projects from February 16, 2010 at 8 a.m. Eastern Standard Time (EST) through March 15, 2010 at 5 p.m. EDT (Application Closing Deadline). On March 3, 2010, NTIA announced the extension of the Application Closing Deadline for CCI projects under BTOP until 5 p.m. EDT on March 26, 2010. (75 FR 10464, Mar. 8, 2010).

NTIA announces this extension in the Application Closing Deadline for CCI projects in the interest of ensuring that BTOP funding is made available in the most equitable manner. The complexity of preparing an infrastructure application requires applicants to offer proposals that are truly comprehensive in scope. NTIA recognizes that applicants may need the full business day on Friday, March 26, 2010, to finalize their proposals. To accommodate applicants in time zones other than the Eastern Time zone, NTIA will extend the filing deadline by five hours to Friday, March 26, 2010, at 10 p.m. EDT. All other requirements for electronic submissions set forth in the Second NOFA remain unchanged.

All applicants are strongly encouraged to register in the Central Contractor Registration (CCR) database now, begin uploading large .pdf files when they are complete, and submit their application as early as possible. Note, however, that an early submission will not confer any advantage or priority in review.

Dated: March 19, 2010.
Lawrence E. Strickling,
Assistant Secretary for Communications and Information.

[FR Doc. 2010-6558 Filed 3-22-10; 11:15 am]

BILLING CODE 3510-60-S